NUCLEAR REGULATORY COMMISSION

Advisory Committee on the Medical Uses of Isotopes: Meeting Notice

AGENCY: Nuclear Regulatory Commission.

ACTION: Notice of meeting.

SUMMARY: The U.S. Nuclear Regulatory Commission will convene a meeting of the Advisory Committee on the Medical Uses of Isotopes (ACMUI) on May 20-21, 2003. The meeting will take place at the address provided below. All sessions of the meeting will be open to the public with the exception of the first session, which will be closed to conduct administrative business related to internal personnel rules and/or practices of ACMUI members. A sample of agenda topics for discussion in the public session includes: (1) Follow-up discussion of the ACMUI's recommendations to the training and experience requirements to the revised title 10, Code of Federal Regulations, part 35; (2) written directives as they pertain to certain uses of brachytherapy; (3) the ACMUI's Subcommittee activities to address the medical uses of byproduct material under title 10, Code of Federal Regulations, part 35.1000; (4) an update to the Government Accounting Office review of the domestic use of byproduct material; (5) the National Materials Program pilot project on operating experience evaluation; and, (6) physical presence requirements during stereotactic radiosurgery treatments.

DATES: The public meeting will be held on Tuesday May 20, 2003, from 1 p.m. to 5 p.m, and Wednesday, May 21, 2003, from 8 a.m. to 5 p.m. The closed session will be held from 8 a.m. to 12 p.m. on May 20.

ADDRESSES: U.S. Nuclear Regulatory Commission, Two White Flint North Building, Conference Room T2B3, 11545 Rockville Pike, Rockville, MD 20852-2738.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Manuel D. Cerqueira, M.D., ACMUI Chairman, will chair the meeting. Dr. Cerqueira will manage the meeting in a manner that will facilitate the orderly conduct of business. The following procedures apply to public participation in the meeting:

1. Persons who wish to provide a written statement should submit a reproducible copy to Angela R. Williamson, U.S. Nuclear Regulatory Commission, Two White Flint North, Mail Stop T8F5, Washington, DC 20555-0001. Alternately, the statement may be e-mailed to Angela R. Williamson at arw@nrc.gov. Submittals must be postmarked by May 13, 2003, and must pertain to the topics on the agenda for the meeting.

2. Questions from members of the public will be permitted during the meeting, at the discretion of the Chairman.

3. The transcript and written comments will be available for inspection on NRC's Web site (www.nrc.gov) and at the NRC Public Document Room, 11555 Rockville Pike, Rockville, MD 20852-2738, telephone (800) 397-4209, on or about July 21, 2003. Minutes of the meeting will be available on or about August 20, 2003.

This meeting will be held in accordance with the Atomic Energy Act of 1954, as amended (primarily section 161a); the Federal Advisory Committee Act (5 U.S.C. App); and the Commission's regulations in title 10, U.S. Code of Federal Regulations, part 7.

Dated: March 17, 2003.
Andrew L. Bates,
Advisory Committee Management Officer.

[FR Doc. 03-6954 Filed 3-21-03; 8:45 am]

BILLING CODE 7690-01-P